DEPARTMENT OF STATE

[Public Notice 8252]

Defense Trade Advisory Group; Notice of Open Meeting

SUMMARY: The Defense Trade Advisory Group (DTAG) will meet in open session from 1:00 p.m. until 5 p.m. on Thursday, May 9, 2013 at 1777 F Street NW., Washington, DC Entry and registration will begin at 12:30 p.m. The membership of this advisory committee consists of private sector defense trade representatives, appointed by the Assistant Secretary of State for Political-Military Affairs, who advise the Department on policies, regulations, and technical issues affecting defense trade. The purpose of the meeting will be to discuss current defense trade issues and topics for further study.

The following agenda topics will be discussed: review of the current definitions of technical data, as well as the control language applied in each regulation, resulting in harmonized definitions and controls in the International Traffic in Arms Regulations (ITAR) and the Export Administration Regulations (EAR); review of cloud computing, its various implementation arrangements, and a report on the implications for regulators and possible guidance that might be promulgated for use by exporters consistent with regulatory controls; and review of the current definitions of fundamental research, resulting in a harmonized definition that can be used in both the ITAR and the EAR.

Members of the public may attend this open session and will be permitted to participate in the discussion in accordance with the Chair's instructions. Members of the public may, if they wish, submit a brief statement to the committee in writing.

As seating is limited to 125 persons, those wishing to attend the meeting must notify the DTAG Alternate Designated Federal Officer (DFO) by COB Friday, May 3, 2013. Members of the public requesting reasonable accommodation must also notify the DTAG Alternate DFO by that date. If notified after this date, the Department will be unable to accommodate requests due to requirements at the meeting location.

Each non-member observer or DTAG member that wishes to attend this plenary session should provide: his/her name and identifying data such as driver's license number, U.S. Government ID, or U.S. Military ID, to the DTAG Alternate DFO, Patricia Slygh, via email at SlyghPC@state.gov. One of the following forms of valid photo identification will be required for admission to the meeting: U.S. driver's license, passport, U.S. Government ID or other valid photo ID.

For additional information, contact Patricia Slygh, PM/DDTC, SA-1, 12th Floor, Directorate of Defense Trade Controls, Bureau of Political-Military Affairs, U.S. Department of State, Washington, DC 20522-0112; telephone (202) 663-2830; FAX (202) 261-8199; or email SlyghPC@state.gov.

Dated: March 15, 2013.
Patricia C. Slygh,
Alternate Designated Federal Officer, Defense Trade Advisory Group, Department of State.

[FR Doc. 2013-06749 Filed 3-22-13; 8:45 am]

BILLING CODE 4710-25-P